DEPARTMENT OF LABOR

Employment and Training Administration

[TA-W-42,335]

Trans World Connections, Ltd., Lynchburg, Virginia; Notice of Termination of Investigation

Pursuant to section 221 of the Trade Act of 1974, an investigation was initiated on November 1, 2002, in response to a petition filed by a company official on behalf of workers at Trans World Connections, Ltd., Lynchburg, Virginia.

The company official submitting the petition has requested that the petition be withdrawn. Consequently, further investigation in this case would serve no purpose and the investigation has been terminated.

Signed in Washington, DC, this 13th day of November, 2002.
Elliott S. Kushner,
Certifying Officer, Division of Trade Adjustment Assistance.

[FR Doc. 02-29644 Filed 11-20-02; 8:45 am]

BILLING CODE 4510-30-P